DEPARTMENT OF TRANSPORTATION

Pipeline and Hazardous Materials Safety Administration

[Docket No. PHMSA-2026-0496]

Pipeline Safety: Incident Notifications to the National Response Center

AGENCY: Pipeline and Hazardous Materials Safety Administration (PHMSA), Department of Transportation.

ACTION: Notice; issuance of advisory bulletin.

SUMMARY: PHMSA is issuing this advisory bulletin to remind operators of gas pipelines, underground natural gas storage (UNGS) facilities, and liquefied natural gas (LNG) facilities of their obligation to report incidents in accordance with PHMSA's incident reporting requirements. This advisory bulletin addresses a safety recommendation that the National Transportation Safety Board (NTSB) issued to PHMSA in response to a fatal incident that occurred on a gas distribution system in February 2018.

FOR FURTHER INFORMATION CONTACT: Nancy White by phone at 202-923-8268 or by email at Nancy.White1@dot.gov.

SUPPLEMENTARY INFORMATION: On February 23, 2018, an incident occurred on a gas distribution system in Dallas, Texas, resulting in one fatality, injuring four other people, and causing major structural damage to a residence. Two separate incidents occurred two days earlier at nearby residences served by the same gas distribution system, resulting in second-degree burns to an occupant and causing significant structural damage to the residences.¹ The operator did not provide an immediate notification to the National Response Center (NRC) of either incident as required by 49 CFR 191.5 or file a written incident report with PHMSA,² asserting there was no evidence at the time that a release of natural gas from its distribution system was involved.³

¹ NTSB, Accident Report PAR-21/01, Atmos Energy Corporation Natural Gas-Fueled Explosion: Dallas, Texas: February 23, 2018, at 1 (Jan. 12, 2021) (NTSB/PAR-21/01), available at: https://www.ntsb.gov/investigations/AccidentReports/Reports/PAR2101.pdf.

² NTSB/PAR-21/01 at 61. Atmos provided a courtesy email to the state regulator following the second explosion on the evening of February 22, 2018, but did not provide official notification or file a formal incident report.

³ NTSB/PAR-21/01 at 4, 61.

NTSB conducted an investigation and determined that the probable cause of the February 23, 2018 incident was:

. . . the ignition of an accumulation of natural gas that leaked from the gas main that was damaged during a sewer replacement project 23 years earlier and was undetected by [the gas distribution operator's] investigation of two related natural gas incidents on the 2 days before the explosion. Contributing to the explosion was [the gas distribution operator's] insufficient wet weather leak investigation procedures. Contributing to the severity of the explosion was [the gas distribution operator's] inaction to isolate the affected main and evacuate the houses. Contributing to the degradation of the pipeline system was [the gas distribution operator's] inadequate integrity management program.⁴

⁴ NTSB/PAR-21/01 at 71.

NTSB also issued Safety Recommendation P—21-1 to PHMSA, advising the Agency to “[e]xpand incident reporting requirements in [49 CFR] Part 191 so that events that may meet the definition of `incident' are immediately reported to [NRC,] even when the source of the natural gas has not been determined.” ⁵ NTSB's Accident Report also lists industry guidance factors that pipeline operators can use to determine whether an event could be a reportable incident, such as a rupture or explosion, fire, loss of service, evacuation of people in the area, involvement of local emergency response personnel, and degree of media involvement (ANSI/GPTC 2018).⁶

⁵ NTSB/PAR-21/01 at 72.

⁶ NTSB/PAR-21/01 at 61, 62.

PHMSA's regulations in 49 CFR part 191 require operators of gas pipelines, UNGS facilities, and LNG facilities to notify the NRC of an incident at the earliest practicable moment following discovery, but no later than one hour after confirmed discovery.⁷ An “incident” is defined in § 191.3 as any of the following events:

⁷ 49 CFR 191.5(a).

(1.) An event that involves a release of gas from a pipeline, gas from a UNGS facility, liquefied natural gas, liquefied petroleum gas, refrigerant gas, or gas from an LNG facility, and that results in one or more of the following consequences:

(i) A death, or personal injury necessitating in-patient hospitalization;

(ii) Estimated property damage of [$149,700] or more, including loss to the operator or others, or both, but excluding the cost of gas lost,⁸ [or]

⁸ The dollar figure adjusts for inflation for 2025. Changes to the reporting threshold are posted on PHMSA's website and determined in accordance with the procedures in appendix A to Part 191. See https://www.phmsa.dot.gov/sites/phmsa.dot.gov/files/2025-04/2025-Gas-Property-Damage-Reporting-Threshold-Inflation-Adjustment.pdf.

(iii) Unintentional estimated gas loss of three million cubic feet or more.

(2.) An event that results in an emergency shutdown of an LNG facility or a UNGS facility.⁹

⁹ “Activation of an emergency shutdown system for reasons other than an actual emergency within the facility does not constitute an incident.” 49 CFR 191.3.

(3.) An event that is significant in the judgment of the operator, even though it did not meet the criteria of paragraph (1) or (2) of this definition.

For purposes of the incident reporting requirements, “confirmed discovery” of an event occurs “when it can be reasonably determined, based on information available to the operator at the time a reportable event has occurred, even if only based on a preliminary evaluation.” ¹⁰

¹⁰ 49 CFR 191.3.

Operators are required to file additional telephonic or electronic reports to NRC to confirm or revise the initial estimates of the number of fatalities or injuries, amount of product released, or extent of damages.¹¹ This may include filing an updated NRC report for a previously reported event that an operator subsequently determines did not meet the regulatory reporting thresholds.

¹¹ 49 CFR 191.5.

PHMSA's incident reporting requirements play a critical role in ensuring public safety. Federal, state, and local agencies need to be aware of incidents “at the earliest practicable moment so that emergency personnel or investigators can be dispatched quickly to mitigate the consequences of such an event.” ¹² Incident reporting also provides PHMSA and states with a means to identify safety issues, implement preventative measures to mitigate safety risks, analyze trends, and enhance pipeline safety across the Nation.

¹² PHMSA, Pipeline Safety: Operator Qualification, Cost Recovery, Accident and Incident Notification, and Other Pipeline Safety Changes, 82 FR 7972, 7978 (Jan. 23, 2017).

PHMSA and its predecessor agency, the Research and Special Programs Administration, have issued numerous alerts and advisory bulletins emphasizing the importance of complying with the incident reporting requirements in Part 191, and providing complete and accurate information during emergencies.¹³ PHMSA continues to remind operators of gas pipelines, UNGS facilities, and LNG facilities of the requirement to report incidents to NRC at the earliest practicable moment following discovery, but no later than one hour after confirmed discovery.

¹³ E.g., ALN-91-01, Reemphasize each pipeline operator's responsibility to report promptly; criteria specified in 49 CFR 191.5/195.52. (Apr. 15, 1991); ADB-02-04, Pipeline Safety: Required Notification of National Response Center (Sep. 6, 2002); ADB-10-08, Emergency Preparedness Communications (Nov. 3, 2010); ADB-2012-09 Communications During Emergency Situations (Oct. 11, 2012); ADB-2013-01, Pipeline Safety: Telephonic Notification Time Limit to NRC (Jan. 30, 2013).

Guidance and advisory bulletins are not rules; are not meant to bind the public in any way; and do not assign duties, create legally enforceable rights, or impose new obligations that are not otherwise contained in regulations.

I. Advisory Bulletin (ADB-2026-04)

To: Owners and Operators of Gas Pipelines, Underground Natural Gas Storage Facilities, and Liquefied Natural Gas Facilities.

Subject: Incident Notifications to the National Response Center.

Advisory: PHMSA is issuing this advisory bulletin to inform owners and operators of gas pipelines, underground natural gas storage (UNGS) facilities, and liquefied natural gas (LNG) facilities of the findings and safety recommendations issued by the National Transportation Safety Board (NTSB) in response to a natural gas distribution incident that occurred in Dallas, Texas on February 23, 2018, and to remind operators of their obligation under 49 CFR part 191 to notify the National Response Center (NRC) of incidents at the earliest practicable moment following discovery, but no later than one hour after confirmed discovery. For purposes of the incident reporting requirements in Part 191, confirmed discovery occurs “when it can be reasonably determined, based on information available to the operator at the time a reportable event has occurred, even if only based on a preliminary evaluation.” ¹⁴

¹⁴ 49 CFR 191.3.

PHMSA's incident reporting regulations are intended to ensure that Federal, state, and local agencies are alerted to incidents “at the earliest practicable moment so that emergency personnel or investigators can be dispatched quickly to [help] mitigate the consequence of such an event.” ¹⁵ Operators are reminded that the regulations require reporting of events that are significant in the judgement of the operators even if they do not meet criteria specified in the regulations.¹⁶ Operators are also reminded that the regulations require immediate notification to the NRC of potential incidents based on available information, even if only a preliminary evaluation has been conducted.¹⁷ Gas pipeline operators should also note that the “[e]stimated property damage of $[149,700] or more” requirement under § 191.3 does not include cost of gas lost but does encompass certain ancillary costs associated with the natural gas release event.

¹⁵ Pipeline Safety: Operator Qualification, Cost Recovery, Accident and Incident Notification, and Other Pipeline Safety Changes, 82 FR 7972, 7978 (Jan. 23, 2017).

¹⁶ See 49 CFR 191.3.

¹⁷ See 49 CFR 191.3.

PHMSA notes that NTSB's Accident Report identifies factors that pipeline operators can use to determine whether an incident might be reportable. Those factors include rupture or explosion; fire; loss of service; evacuation of people in the area; involvement of local emergency response personnel; and degree of media involvement.¹⁸ NTSB's Accident Report further identifies that several of these factors (explosion, fire, local emergency response, and media involvement) occurred during the two nearby incidents that preceded the February 23, 2018 incident yet these incidents went unreported by the gas distribution operator.¹⁹

¹⁸ NTSB/PAR-21/01 at 61-62.

¹⁹ NTSB/PAR-21/01 at 62.

PHMSA agrees with NTSB that timely incident reporting “can make the difference between life and death” and “provides appropriate stakeholders with the information they need to perform their incident response functions which support the identification, analysis, and evaluation of pipeline safety problems, and facilitate[s] the development of practical solutions to pipeline safety challenges.” ²⁰ It is imperative for an effective emergency response to ensure that all information concerning a gas pipeline, UNGS facility, or LNG facility's reportable incident is identified, considered, evaluated, and integrated with other known system information.²¹

²⁰ NTSB, PAR-21/01 at 60.

²¹ See 49 CFR 192.615(a)(3) and 192.631(a)(2); see also PHMSA, Pipeline Safety: Operator Qualification, Cost Recovery, Accident and Incident Notification, and Other Pipeline Safety Changes, 82 FR 7972 (Jan. 23, 2017).

For these reasons, PHMSA reminds operators that Federal pipeline safety regulations require operators to notify NRC at the earliest practicable moment following discovery, but no later than one hour after confirmed discovery, of a reportable incident that involves a release from a gas pipeline, UNGS facility, or LNG facility, even if only based on a preliminary evaluation. PHMSA notes that the contents of this advisory bulletin do not have the force and effect of law and are not meant to bind operators nor the public in any way.

Issued in Washington, DC, on February 17, 2026, under authority delegated in 49 CFR 1.97.
Linda Daugherty,
Acting Associate Administrator for Pipeline Safety.

[FR Doc. 2026-03361 Filed 2-19-26; 8:45 am]

BILLING CODE 4910-60-P